UNIFIED CARRIER REGISTRATION PLAN

Sunshine Act Meetings

TIME AND DATE: June 8, 2023, 12:00 p.m. to 3:00 p.m., Eastern Time.

PLACE: This meeting will be accessible via conference call and via Zoom Meeting and Screenshare. Any interested person may call (i) 1-929-205-6099 (US Toll) or 1-669-900-6833 (US Toll), Meeting ID: 952 0476 1775, to listen and participate in this meeting. The website to participate via Zoom Meeting and Screenshare is https://kellen.zoom.us/meeting/register/tJEvd-2vqDotHdGFSelrZ4pwW-Bp9kQs0voJ.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed, and the Board will consider adoption.

Ground Rules

➢Board actions taken only in designated areas on agenda.

IV. Approval of Minutes of the April 13 UCR Board Meeting—UCR Board Chair

For Discussion and Possible Board Action

Draft Minutes from the April 13, 2023, UCR Board meeting will be reviewed. The Board will consider action to approve.

V. Report of FMCSA—FMCSA Representative

The Federal Motor Carrier Safety Administration (FMCSA) will provide a report on relevant activity.

VI. Discussion of Proposed Changes to UCR Agreement—UCR Board Chair, UCR Board Vice-Chair, UCR Audit Subcommittee Chair, UCR Executive Director, UCR Chief Legal Officer

The UCR Board Chair, UCR Board Vice-Chair, UCR Audit Subcommittee Chair, UCR Executive Director and the UCR Chief Legal Officer will discuss proposed changes to the UCR Agreement. No Board action will be taken on any proposed changes at this meeting.

VII. Proposal To Send a Letter to Certain Intrastate Motor Carriers From Non-Participating States and Rhode Island—UCR Executive Director and Seikosoft

For Discussion and Possible Board Action

The UCR Executive Director and a Seikosoft representative will present proposals to the UCR Board to send a letter to new intrastate USDOT motor carriers from non-participating states and Rhode Island that may be engaged in interstate commerce to provide educational information about UCR and instructions for UCR registration, should registration be applicable to the motor carrier. The Board may consider and approve the cost of sending such letters.

VIII. Subcommittee Reports

Audit Subcommittee—UCR Audit Subcommittee Chair

A. Update the Board on the Project To Replace the Retreat Audit Program With a Program That Relies on Roadside Inspection Data—UCR Audit Subcommittee Chair, UCR Audit Subcommittee Vice-Chair, DSL Transportation and Seikosoft Representatives

The UCR Audit Subcommittee Chair, UCR Audit Subcommittee Vice-Chair and DSL Transportation and Seikosoft representatives will lead a discussion on options to replace the Retreat Audit Program currently utilized by the states with a roadside inspection data driven audit for non-IRP plated commercial motor vehicles and the motor carriers operating this type of registered equipment.

B. Update on the Recent Question and Answer Session for State Auditors—UCR Audit Subcommittee Chair, UCR Audit Subcommittee Vice-Chair, UCR Executive Director

The UCR Audit Subcommittee Chair, UCR Audit Subcommittee Vice-Chair and UCR Executive Director will update the Board on the latest 60-minute virtual question and answer session conducted with state auditors and provide the date and possible topics for discussion regarding the next session.

C. Report to the Board Highlighting the 2022 State Audit Report—UCR Audit Subcommittee Chair

For Discussion and Possible Board Action

The UCR Audit Subcommittee Chair will review audit compliance statistics for the states 2022 registration year regarding FARs, Retreat Audits and Registration Percentages and the States Unregistered Bracket 5 and 6 motor carriers. If applicable, the UCR Audit Subcommittee Chair will recommend to the Board that all non-compliant states have a representative report to the Board at the next Board Meeting to outline corrective action measures.

D. Options To Clean Up the Unregistered Motor Carrier UCR Universe in Shadow MCMIS—UCR Audit Subcommittee Chair, UCR Audit Subcommittee Vice-Chair, Seikosoft Representative

The UCR Audit Subcommittee Chair, UCR Audit Subcommittee Vice-Chair and a Seikosoft representative will lead a discussion on the steps necessary for the NRS and State Auditors to address the 2022/2023 unregistered motor carrier universe in Shadow MCMIS.

Finance Subcommittee—UCR Finance Subcommittee Chair

Discussion of UCR Investment Policy

The UCR Finance Subcommittee Chair will provide the Board an update on the latest developments and market factors regarding the account structures of UCR Funds.

Education and Training Subcommittee—UCR Education and Training Subcommittee Chair

Update on Current and Future Training Initiatives

The Education and Training Subcommittee Chair will provide an update on current and planned future training initiatives and the E-Certificate program.

Industry Advisory Subcommittee—UCR Industry Advisory Subcommittee Chair

Update on Current Initiatives

The UCR Industry Advisory Subcommittee Chair will provide an update on current and planned initiatives regarding motor carrier industry concerns.

Enforcement Subcommittee—UCR Enforcement Subcommittee Chair

Update on Current Initiatives

The UCR Enforcement Subcommittee Chair will provide an update on current and planned initiatives.

Dispute Resolution Subcommittee—UCR Dispute Resolution Subcommittee Chair

Update on Current Initiatives

The UCR Dispute Resolution Subcommittee Chair will provide an update on planned initiatives.

IX. Contractor Reports—UCR Board Chair

• UCR Executive Director Report

The UCR Executive Director will provide a report covering his recent activity for the UCR Plan.

• DSL Transportation Services, Inc.

DSL Transportation Services, Inc. will report on the latest data from the Focused Anomaly Reviews (FARs) program, discuss motor carrier inspection results, pilot projects and other matters.

• Seikosoft

Seikosoft will provide an update on recent/new activity related to the National Registration System (NRS).

• UCR Administrator Report (Kellen)

The UCR Chief of Staff will provide a management report covering recent activity for the Depository, Operations, and Communications.

X. Other Business—UCR Board Chair

The UCR Board Chair will call for any other business, old or new, from the floor.

XI. Adjournment—UCR Board Chair

The UCR Board Chair will adjourn the meeting.

The agenda will be available no later than 5:00 p.m. Eastern time, May 31, 2023, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2023-12016 Filed 6-1-23; 11:15 am]

BILLING CODE 4910-YL-P